DEPARTMENT OF THE TREASURY

Submission for OMB Review; Comment Request

November 26, 2012.

The Department of the Treasury will submit the following information collection request to the Office of Management and Budget (OMB) for review and clearance in accordance with the Paperwork Reduction Act of 1995, Public Law 104-13, on or after the date of publication of this notice.

DATES: Comments should be received on or before December 31, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0025.

Type of Review: Extension without change of a currently approved collection.

Title: Affiliations Schedule.

Form: 851.

Abstract: Form 851 provides IRS with information to ascertain (1) the names and identification numbers of the members of the affiliated group included in the consolidated return, (2) taxes paid by each member of the group, and (3) stock ownership; changes in stock ownership and other information to determine that each corporation is a qualified member of the affiliated group as defined in section 1504 of the Code.

Affected Public: Private Sector: Businesses or other for-profits.

Estimated Total Burden Hours: 51,040.

OMB Number: 1545-0166.

Type of Review: Extension without change of a currently approved collection.

Title: Recapture of Investment Credit.

Form: 4255.

Abstract: IRC section 50(a) and § 1.47 require that taxpayers attach a statement to their return showing the computation of the recapture tax when investment credit property is disposed of before the end of the recapture period used in the original computation of the investment credit.

Affected Public: Private Sector: Businesses or other for-profits.

Estimated Total Burden Hours: 129,492.

OMB Number: 1545-0239.

Type of Review: Extension without change of a currently approved collection.

Title: Statement by Person(s) Receiving Gambling Winnings.

Form: 5754.

Abstract: Section 3402(q)(6) of the IRC requires a statement by the person receiving certain gambling winnings when that person is not the winner or is one of a group of winners. It enables the payer to properly apportion the winnings and withheld tax on Form W-2G. The information on Form W-2G is used to ensure that recipients are properly reporting their income.

Affected Public: Private Sector: Businesses or other for-profits.

Estimated Total Burden Hours: 40,800.

OMB Number: 1545-0644.

Type of Review: Extension without change of a currently approved collection.

Title: Gains and Losses From Section 1256 Contracts and Straddles.

Form: 6781.

Abstract: Form 6781 is used by taxpayers to compute their gains and losses from Section 1256 contracts and straddles and their special tax treatment. The data is used to verify that the tax reported accurately reflects any such gains and losses.

Affected Public: Private Sector: Businesses or other for-profits.

Estimated Total Burden Hours: 903,236.

OMB Number: 1545-0745.

Type of Review: Extension without change of a currently approved collection.

Title: LR-27-83 (TD 7882—final) Floor Stocks Credits or Refunds and Consumer Credits or Refunds With Respect to Certain Tax-Repealed Articles; Excise Tax on Heavy Trucks; LR-54-85 (TD 8050) Excise Tax on Heavy Trucks, Truck Trailers and Semitrailers, and Tractors; Reporting and Recordkeeping Requirements.

Abstract: LR-27-83 (TD 7882), requires sellers of trucks, trailers and semitrailers, and tractors to maintain records of the gross vehicle weights of articles sold to verify taxability. LR-54-85 (TD 8050), requires that if the sale is to be treated as exempt, the seller and the purchaser must be registered and the purchaser must give the seller a resale certificate.

Affected Public: Private Sector: Businesses or other for-profits.

Estimated Total Burden Hours: 4,140.

OMB Number: 1545-0996.

Type of Review: Extension without change of a currently approved collection.

Title: REG-130477-00; REG-130481-00 (TD 8987 -Final), Required Distributions From Retirement Plans.

Abstract: The regulations relate to the required minimum distribution from qualified plans, individual retirement plans, deferred compensation plans under section 457, and section 403(b) annuity contracts, custodial accounts, and retirement income accounts.

Affected Public: State, Local, and Tribal Governments.

Estimated Total Burden Hours: 8,400.

OMB Number: 1545-1014.

Type of Review: Extension without change of a currently approved collection.

Title: Form 1066, U.S. Real Estate Mortgage Investment Conduit (REMIC) Income Tax Return; Schedule Q (Form 1066) Quarterly Notice to Residual Interest Holder of REMIC Taxable Income or Net Loss.

Form: 1066, Schedule Q (Form 1066).

Abstract: Form 1066 and Schedule Q (Form 1066) are used by a real estate mortgage investment conduit (REMIC) to figure its tax liability and income and other tax-related information to pass through to its residual holders. IRS uses the information to determine the correct tax liability of the REMIC and its residual holders.

Affected Public: Private Sector: Businesses or other for-profits.

Estimated Total Burden Hours: 756,580.

OMB Number: 1545-1131.

Type of Review: Extension without change of a currently approved collection.

Title: INTL-485-89 (TD 8400 -Final) Taxation of Gain or Loss from Certain Nonfunctional Currency Transactions (Section 988 Transactions).

Abstract: Sections 988(c)(1)(D) and (E) require taxpayers to make certain elections which determine whether section 988 applies. In addition, sections 988(a)(1)(B) and 988(d) require taxpayers to identify transactions which generate capital gain or loss or which are hedges of other transactions.

Affected Public: Private Sector: Businesses or other for-profits.

Estimated Total Burden Hours: 3,333.

OMB Number: 1545-1163.

Type of Review: Extension without change of a currently approved collection.

Title: Form 8822—Change of Address (For Individual, Gift, Estate, or Generation-Skipping Transfer Tax Returns); Form 8822-B—Change of Address—Business.

Form: 8822, 8822-B.

Abstract: Form 8822 and 8822-B are used by taxpayers to furnish their change of address to the Internal Revenue Service. Form 8822 is used by individual taxpayers while Form 8822-B will be used by business taxpayers.

Affected Public: Private Sector: Businesses or other for-profits; Individuals or Households.

Estimated Total Burden Hours: 264,792.

OMB Number: 1545-1426.

Type of Review: Extension without change of a currently approved collection.

Title: INTL-21-91 (TD 8656—Final) Section 6662—Imposition of the Accuracy-Related Penalty.

Abstract: These regulations provide guidance about substantial and gross valuation misstatements as defined in sections 6662(e) and 6662(h). They also provide guidance about the reasonable cause and good faith exclusion. The regulations apply to taxpayers who have transactions between persons described in section 482 and not section 482 transfer price adjustments.

Affected Public: Private Sector: Businesses or other for-profits.

Estimated Total Burden Hours: 20,125.

OMB Number: 1545-1520.

Type of Review: Extension without change of a currently approved collection.

Title: Revenue Procedure 2011-4 (Letter Rulings), Revenue Procedure 2011-5 (Technical Advice), Revenue Procedure 2011-6 (Determination Letters), and Revenue Procedure 2011-8 (User Fees).

Abstract: The information requested in Revenue Procedure 2011-4, Revenue Procedure 2011-5, Revenue Procedure 2011-6, and Revenue Procedure 2011-8 is required to enable the Office of the Division Commissioner (Tax Exempt and Government Entities) of the Internal Revenue Service to give advice on filing letter ruling, determination letter, and technical advice requests, to process such requests, and to determine the amount of any user fees.

Affected Public: Private Sector: Businesses or other for-profits.

Estimated Total Burden Hours: 178,146.

OMB Number: 1545-1535.

Type of Review: Extension without change of a currently approved collection.

Title: Revenue Procedure 97-19, Timely Mailing Treated as Timely Filing.

Abstract: Revenue Procedure 97-19 provides the criteria that will be used by the IRS to determine whether a private delivery service qualifies as a designated Private Delivery Service under section 7502 of the Internal Revenue Code.

Affected Public: Private Sector: Businesses or other for-profits.

Estimated Total Burden Hours: 3,069.

OMB Number: 1545-1674.

Type of Review: Extension without change of a currently approved collection.

Title: Revenue Procedure 2011-49, Master and Prototype and Volume Submitter Plans (previously Rev. Proc. 2005-16).

Abstract: The master and prototype and volume submitter revenue procedure sets forth the procedures for sponsors of master and prototype and volume submitter pension, profit-sharing and annuity plans to request an opinion letter or an advisory letter from the Internal Revenue Service that the form of a master or prototype plan or volume submitter plan meets the requirements of section 401(a) of the Internal Revenue Code. The information requested in sections 5.11, 8.02, 11.02, 12, 14.05 15.02, 18, and 24 of the master and prototype revenue procedure is in addition to the information required to be submitted with Forms 4461.

Affected Public: Private Sector: Businesses or other for-profits.

Estimated Total Burden Hours: 1,058,850.

OMB Number: 1545-1801.

Type of Review: Extension without change of a currently approved collection.

Title: Revenue Procedure 2002-67, Settlement of Section 351 Contingent Liability Tax Shelter Cases.

Abstract: This revenue procedure prescribes procedures for taxpayers who elect to participate in a settlement initiative aimed at resolving tax shelter cases involving contingent liability transactions that are the same or similar to those described in Notice 2001-17 (“contingent liability transactions”). There are two resolution methodologies: a fixed concession procedure and a fast track dispute resolution procedure that includes binding arbitration.

Affected Public: Private Sector: Businesses or other for-profits.

Estimated Total Burden Hours: 7,500.

OMB Number: 1545-1804.

Type of Review: Extension without change of a currently approved collection.

Title: New Markets Credit.

Form: 8874.

Abstract: Investors use Form 8874 to request a credit for equity investments in community development entities.

Affected Public: Private Sector: Businesses or other for-profits.

Estimated Total Burden Hours: 32,464.

OMB Number: 1545-1814.

Type of Review: Extension without change of a currently approved collection.

Title: Changes in Corporate Control and Capital Structure.

Form: 1099-CAP.

Abstract: Any corporation that undergoes reorganization under § 1.6043-4T with stock, cash, and other property over $100 million must file Form 1099-CAP with the IRS shareholders.

Affected Public: Private Sector: Businesses or other for-profits.

Estimated Total Burden Hours: 67.

OMB Number: 1545-1833.

Type of Review: Extension without change of a currently approved collection.

Title: Revenue Procedure 2003-37, Documentation Provisions for Certain Taxpayers Using the Fair Market Value Method of Interest Expense Apportionment.

Abstract: Revenue Procedure 2003-37 describes documentation and information a taxpayer that uses the fair market value method of apportionment of interest expense may prepare and make available to the Service upon request in order to establish the fair market value of the taxpayer's assets to the satisfaction of the Commissioner as required by Sec. 1.861-9T(g)(1)(iii). It also sets forth the procedures to be followed in the case of elections to use the fair market value method.

Affected Public: Private Sector: Businesses or other for-profits.

Estimated Total Burden Hours: 625.

OMB Number: 1545-1837.

Type of Review: Extension without change of a currently approved collection.

Title: Revenue Procedure 2003-36, Industry Issue Program.

Abstract: Revenue Procedure 2003-36 describes the procedures for business taxpayers, industry associations, and others representing business taxpayers to submit issues for resolution under the IRS's Industry Issues Resolution Program.

Affected Public: Private Sector: Businesses or other for-profits.

Estimated Total Burden Hours: 2,000.

OMB Number: 1545-1972.

Type of Review: Extension without change of a currently approved collection.

Title: Supplemental Income and Loss.

Form: Schedule E (1040).

Abstract: Schedule E (Form 1040) is used by individuals to report their supplemental income. The data is used to verify that the items reported on the form is correct and also for general statistical use.

Affected Public: Private Sector: Businesses or other for-profits.

Estimated Total Burden Hours: 284,599.

OMB Number: 1545-1974.

Type of Review: Revision of a currently approved collection.

Title: Profit and Loss from Business.

Form: Schedule C (1040).

Abstract: Schedule C (Form 1040) is used by individuals to report their business income, loss and expenses. The data is used to verify that the items reported on the form is correct and also for general statistical use.

Affected Public: Private Sector: Businesses or other for-profits.

Estimated Total Burden Hours: 71,701,693.

OMB Number: 1545-1975.

Type of Review: Extension without change of a currently approved collection.

Title: Profit or Loss From Farming.

Form: Schedule F (1040).

Abstract: Schedule F (Form 1040) is used by individuals to report their employment taxes. The data is used to verify that the items reported on the form is correct and also for general statistical use.

Affected Public: Private Sector: Businesses or other for-profits.

Estimated Total Burden Hours: 7,796,240.

OMB Number: 1545-1998.

Type of Review: Extension without change of a currently approved collection.

Title: Alternative Motor Vehicle Credit.

Form: 8910.

Abstract: Taxpayers will file Form 8910 to claim the credit for certain alternative motor vehicles placed in service after 2005.

Affected Public: Private Sector: Businesses or other for-profits.

Estimated Total Burden Hours: 115,900.

OMB Number: 1545-2003.

Type of Review: Extension without change of a currently approved collection.

Title: Notice 2006-24, Qualifying Advanced Coal Project Program.

Abstract: This notice establishes the qualifying advanced coal project program under Sec. 48A of the Internal Revenue Code. The notice provides the time and manner for a taxpayer to apply for an allocation of qualifying advanced coal project credits and, once the taxpayer has received this allocation, the time and manner for the taxpayer to file for a certification of its qualifying advanced coal project.

Affected Public: Private Sector: Businesses or other for-profits.

Estimated Total Burden Hours: 4,950.

OMB Number: 1545-2008.

Type of Review: Extension without change of a currently approved collection.

Title: Nonconventional Source Fuel Credit.

Form: 8907.

Abstract: Form 8907 will be used to claim a credit from the production and sale of fuel created from nonconventional sources. For tax years ending after 12/31/05 fuel from coke or coke gas can qualify for the credit, and the credit becomes part of the general business credit.

Affected Public: Private Sector: Businesses or other for-profits.

Estimated Total Burden Hours: 171,160.

OMB Number: 1545-2011.

Type of Review: Extension without change of a currently approved collection.

Title: Certification of Intent to Adopt a Pre-approved Plan.

Form: 8905.

Abstract: Use Form 8905 to treat an employer's plan as a pre-approved plan and therefore eligible for the six-year remedial amendment cycle of Part IV of Revenue Procedure 2005-66, 2005-37 I.R.B. 509.

Affected Public: Private Sector: Businesses or other for-profits.

Estimated Total Burden Hours: 110,490.

OMB Number: 1545-2140.

Type of Review: Extension without change of a currently approved collection.

Title: Airplane Payments Report.

Form: 8935, 8935-T.

Abstract: Form 8935 will provide to the employee, current or former, the amount of the payment that was received from the airline that is eligible for rollover treatment into a Roth IRA. Form 8935-T is a transmittal form developed for filing information reporting Forms 8935, Airline Payments Reports, with the Service via paper filing.

Affected Public: Private Sector: Businesses or other for-profits.

Estimated Total Burden Hours: 44.

OMB Number: 1545-2141.

Type of Review: Extension without change of a currently approved collection.

Title: NOT-2009-31—Election and Notice Procedures for Multiemployer Plans under Sections 204 and 205 of WRERA.

Abstract: The guidance in this notice implements temporary, elective relief under the Workers, Retirees, and Employers Relief Act of 2008 (WRERA), for multiemployer pension plans from certain funding requirements.

Affected Public: Private Sector: Businesses or other for-profits.

Estimated Total Burden Hours: 1,600.

Dawn D. Wolfgang,
Treasury PRA Clearance Officer.

[FR Doc. 2012-28895 Filed 11-28-12; 8:45 am]

BILLING CODE 4830-01-P